DEPARTMENT OF DEFENSE

Department of the Air Force

Notice of Intent To Grant an Exclusive Patent License With a Joint Ownership Agreement

AGENCY: Department of the Air Force, Department of Defense.

ACTION: Notice of intent.

SUMMARY: Pursuant to the Bayh-Dole Act, and implementing regulations, the Department of the Air Force hereby gives notice of its intent to grant an exclusive patent license agreement to UNM Rainforest Innovations (formerly known as STC.UNM), an organization having the primary function of managing inventions on behalf of the University of New Mexico, having a place of business at 101 Broadway Blvd. NE, Suite 1100, Albuquerque, New Mexico 87102.

DATES: Written objections must be filed no later than fifteen (15) calendar days after the date of publication of this Notice.

ADDRESSES: Submit written objections to Melissa Ortiz, Technology Transfer Agreements Specialist, AFRL Directed Energy & Space Vehicles Directorates, 3550 Aberdeen Ave. SE, Kirtland AFB, NM 87117; Facsimile: 505-846-5034; or Email: melissa.ortiz.1.ctr@us.af.mil. Include Docket No. 2015-123 in the subject line of the message.

FOR FURTHER INFORMATION CONTACT: Melissa Ortiz, Technology Transfer Agreements Specialist, AFRL Directed Energy & Space Vehicles Directorates, 3550 Aberdeen Ave. SE, Kirtland AFB, NM 87117; Facsimile: 505-846-5034; or Email: melissa.ortiz.1.ctr@us.af.mil.

SUPPLEMENTARY INFORMATION: The Department of the Air Force intends to grant the exclusive patent license agreement for the invention described in:

—U.S. Application No. 15/737,250, filed December 15, 2017, entitled, “Methods to Mitigate Stress-Induced Metal Line Fractures for Thin-Film Solar Cells, Using Metal-Carbon-Nanotube Composites,” and published as US 2018/0175218.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2021-07123 Filed 4-6-21; 8:45 am]

BILLING CODE 5001-10-P